UNITED STATES POSTAL SERVICE BOARD OF GOVERNORS

Sunshine Act Meeting

Time and Dates: 4 p.m., Monday, September 11, 2006; 9:30 a.m. and 4 p.m. Tuesday, September 12, 2006; 8 a.m. Wednesday, September 13, 2006.

Place: Washington, DC, at U.S. Postal Service Headquarters, 475 L'Enfant Plaza, SW., in the Benjamin Franklin Room.

Status: September 11-4 p.m. (Closed); September 12-9:30 a.m. (Closed); September 12-4 p.m. (Open); September 13-8 a.m. (Closed)

Matters to be Considered:

Monday, September 11, at 4 p.m. (Closed)

1. Financial Update.

2. Report on Goals and Performance Assessment for Fiscal Year 2007.

3. Fiscal Year 2007 Integrated Financial Plan Briefing.

4. Rate Case Update.

5. International Products, Services and Rates.

6. Postal Rate Commission Opinion and Recommended Decision in Docket No. MC2006-6, Extension of Capital One Services, Inc., Negotiated Service Agreement.

7. Strategic Planning.

8. Personnel Matters and Compensation Issues.

9. Labor Negotiations Planning.

10. Office of Inspector General Fiscal Year 2007 Budget.

Tuesday, September 12, at 9:30 a.m. (Closed)

1. Continuation of Monday's closed session agenda.

Tuesday, September 12, at 4 p.m. (Open)

1. Minutes of the Previous Meetings, May 2-3, June 6, and July 12, 2006.

2. Remarks of the Postmaster General and CEO Jack Potter.

3. Committee Reports and Committee Charters.

4. Board of Governors Calendar Year 2007 Meeting Schedule.

5. Office of the Governors Fiscal Year 2007 Budget.

6. Postal Rate Commission Fiscal Year 2007 Budget.

7. Financial Update.

8. Fiscal Year 2007 Operating, Capital and Financing Plans.

9. Preliminary Fiscal Year 2008 Appropriation Request.

10. Fiscal Year 2007 Annual Performance Plan—Government Performance and Results Act.

11. Capital Investments.

a. Automated Package Processing Systems (APPS) Phase 2.

b. Phoenix, Arizona—Purchase Existing Building.

12. Tentative Agenda for the November 14-15, 2006, meeting in Washington, DC.

Wednesday, September 13 at 8 a.m. (Closed)—(If needed)

1. Continuation of Tuesday's closed session agenda.

FOR FURTHER INFORMATION CONTACT: Wendy A. Hocking, Secretary of the Board, U.S. Postal Service, 475 L'Enfant Plaza, SW., Washington, DC 20260-1000. Telephone (202) 268-4800.

Wendy A. Hocking,
Secretary.

[FR Doc. 06-7477 Filed 8-31-06; 4:27pm]

BILLING CODE 7710-12-M